DEPARTMENT OF ENERGY

Federal Energy Regulatory Commission

[Docket No. RP98-430-002]

Transcontinental Gas Pipe Line Corporation; Notice of Compliance Filing

April 5, 2002.

Take notice that on March 29, 2002, Transcontinental Gas Pipe Line Corporation (Transco) tendered for filing as part of its FERC Gas Tariff, Third Revised Volume No.1 , the revised tariff sheets listed in Appendix A attached to the filing. The proposed effective dates of such tariff sheets are July 15, 2001 and September 1, 2001.

Transco states that the purpose of its filing is to submit tariff sheets setting forth, in Transco's revised interconnect policy, a reasonable time frame for responding to requests for interconnections. Transco states that its filing is in compliance with the Commission's February 27, 2002 order in this proceeding.

Transco states that it will serve copies of the instant filing on its affected customers and interested State Commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-8905 Filed 4-11-02; 8:45 am]

BILLING CODE 6717-01-P